DEPARTMENT OF LABOR

Employment and Training Administration

[TA-W-63,516]

Morlite/Vista Lighting, Genlyte Group, Erie, PA; Notice of Negative Determination Regarding Application for Reconsideration

By application dated August 19, 2008, a worker requested administrative reconsideration of the Department's negative determination regarding eligibility for workers and former workers of Morlite/Vista Lighting, Genlyte Group, Erie, Pennsylvania to apply for Trade Adjustment Assistance (TAA) and Alternative Trade Adjustment Assistance (ATAA).

The negative determination was issued on July 15, 2008. The Department's Notice of negative determination was published in the Federal Register on July 30, 2008 (73 FR 44284). The workers at Morlite/Vista Lighting, Genlyte Group, Erie, Pennsylvania (subject facility) produce commercial light fixtures for the security and healthcare industries, and are not separately identifiable by product line.

The petition was denied because sales and production at the subject facility increased in 2007 when compared with 2006 and increased from January through May 2008 when compared with the corresponding period in 2007. The initial investigation also revealed that Morlite/Vista Lighting (subject firm) did not shift production of commercial light fixtures from the subject facility to a foreign country during the relevant period.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

In the request for reconsideration, the worker asserts that the shift of production from Tupelo, Mississippi to China enabled the subject firm to shift production from Erie, Pennsylvania to Tupelo, Mississippi, and thereby caused the workers' separations.

To certify a worker group for TAA on a shift of production basis, the Department must find that there has been a shift in production by the workers' firm or appropriate subdivision to a foreign country of articles like or directly competitive with articles which are produced by the workers' firm or subdivision.

A shift of production of flange kits from the subject firm's Tupelo, Mississippi facility to a foreign country is not the same as a shift of production of commercial light fixtures from the subject firm's Erie, Pennsylvania facility to a foreign country. Flange kits are neither like nor directly competitive with the commercial light fixtures produced at the subject facility.

After careful review of the request for reconsideration, the Department determines that there is no new information that supports a finding that Section 222 of the Trade Act of 1974 was satisfied and that no mistake or misinterpretation of the facts or of the law with regards to the number or proportion of workers separated from the subject firm during the relevant period.

Conclusion

After review of the application and investigative findings, I conclude that there has been no error or misinterpretation of the law or of the facts which would justify reconsideration of the Department of Labor's prior decision. Accordingly, the application is denied.

Signed at Washington, DC this 2nd day of September 2008.
Elliott S. Kushner,
Certifying Officer, Division of Trade Adjustment Assistance.

[FR Doc. E8-21322 Filed 9-11-08; 8:45 am]

BILLING CODE 4510-FN-P